DEPARTMENT OF THE TREASURY

Financial Management Service; Privacy Act of 1974, as Amended

AGENCY: Financial Management Service, Treasury.

ACTION: Notice of alteration of Privacy Act System of Records.

SUMMARY: The Department of the Treasury, Financial Management Service (FMS) gives notice of a proposed alteration to the system of records entitled “Treasury/FMS .014—Debt Collection Operations System,” which is subject to the Privacy Act of 1974, as amended (5 U.S.C. 552a). The system notice was last published in its entirety in the Federal Register Vol. 70, page 34529 on June 14, 2005.

DATES: Comments must be received no later than April 2, 2007. The proposed alteration will be effective April 11, 2007 unless FMS receives comments which would result in a contrary determination.

ADDRESSES: Comments must be submitted to Debt Management Services, Financial Management Service, 401 14th Street, SW., Room 223, Washington, DC 20227, or by electronic mail to Tom.Dugan@fms.treas.gov. Comments received will be available for inspection at the same address between the hours of 9 a.m. and 4 p.m. Monday through Friday.

FOR FURTHER INFORMATION CONTACT: Tom Dungan, Financial Management Service, Debt Management Services, (202) 874-7349.

SUPPLEMENTARY INFORMATION: The Financial Management Service (FMS) operates several programs to facilitate collection or resolution of debts owed to the Federal Government and states, including past due support being enforced by states. One of these programs is FMS's cross-servicing program, wherein Federal agencies refer their debts to FMS for a broad range of debt collection actions. FMS maintains records on individuals who owe debts to the Federal Government, and such records are maintained in its “Debt Collection Operations System” system of records.

In 2006, FMS will begin obtaining data from the Department of Health and Human Service's new hire database to assist in the collection of delinquent debts, as authorized by statute (42 U.S.C. 653(j)(9)). In anticipation of this event, FMS conducted a complete review of its system of records notice entitled “Treasury/FMS .014—Debt Collection Operations System,” to determine if any alterations were necessary. FMS has determined that the system of records notice should be clarified in certain respects.

First, FMS is altering this system of records to clarify the categories of records in the system by specifically listing “information concerning the financial status of the debtor and his/her household” as part of the information about the debtor the system may include. Financial information about the debtor and or his/her household is used in considering debt collection actions, such as whether to consider a compromise or installment payment agreement. Financial information is included in the existing system, but is not independently identified as a separate record category. FMS believes that the system of records notice should state explicitly that the records could include financial information about an individual and/or his/her household.

Second, FMS is revising its routine use disclosure number (6), which currently authorizes disclosure to the Department of Justice (DOJ) for the purpose of litigation to enforce collection of a delinquent debt or to obtain DOJ's concurrence in a decision to compromise, suspend, or terminate collection action on a debt. The revision authorizes disclosure to any Federal agency when requested in connection with any legal proceeding, not just for litigation to enforce collection on a delinquent debt. This routine use is being revised because records contained in this system may be relevant and pertinent to a variety of proceedings, including administrative proceedings, though not specifically to enforce collection of a debt. Where records maintained in this system are relevant and pertinent to official legal proceedings, disclosure of those records to federal agencies should be authorized.

Finally, FMS is altering the record source categories to indicate that a source federal agency may include an agency that has financial or employment information about the debtor but is not the debtor's employer. For example, the Department of Health and Human Services will be a source agency for this system, and the records provided will not necessarily be limited to records of those individuals who are employed by HHS.

The report of an altered system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

For the reasons set forth above, FMS proposes to alter system of records Treasury/FMS .014, “Debt Collection Operations System—Treasury/Financial Management Service,” as follows:

Treasury/FMS .014

System name:

Debt Collection Operations System—Treasury/Financial Management Service.

* * * * *

Categories of records in the system:

* * * * *

Description of changes: The second sentence is revised to read as follows:

“The records may contain identifying information, such as name(s) and taxpayer identifying number (i.e., Social Security number or employer identification number); debtor contact information, such as work and home address, and work and home telephone numbers; information concerning the financial status of the debtor and his/her household, including income, assets, liabilities or other financial burdens, and any other resources from which the debt may be recovered; and name of employer and employer address.”

* * * * *

Routine uses of records maintained in the system, including categories of users and the purposes of such uses:

* * * * *

Description of changes: Routine use (6) is revised to read as follows:

“(6) The Department of Justice or other Federal agency:

a. When requested in connection with a legal proceeding, or

b. To obtain concurrence in a decision to compromise, suspend, or terminate collection action on a debt.”

* * * * *

Record source categories:

Description of changes: The current paragraph is revised to read as follows:

“Information in this system is provided by the individual on whom the record is maintained; Federal and state agencies to which the debt is owed; Federal agencies and other entities that employ the individual or have information concerning the individual's employment or financial resources; Federal and state agencies issuing payments; collection agencies, locator and asset search companies; credit bureaus; Federal, state or local agencies furnishing identifying information and/or address of debtor information; or from public documents.”

* * * * *

Dated: February 26, 2007.
Wesley T. Foster,
Acting Assistant Secretary for Management.

[FR Doc. E7-3687 Filed 3-1-07; 8:45 am]

BILLING CODE 4810-35-P